DEPARTMENT OF ENERGY

Federal Energy Regulatory Commission

[Docket No. CP05-388-003]

Southern Natural Gas Company; Notice of Amendment

July 10, 2007.

Take notice that on July 6, 2007, Southern Natural Gas Company (Southern), filed in Docket No. CP05-388-003, an application pursuant to section 7(c) of the Natural Gas Act (NGA) a petition to amend the June 15, 2006 Commission Order (115 FERC ¶ 61,328 (2006)) issuing Southern a certificate to construct and operate its Cypress Pipeline Project. Specifically, to support the authorized Phase II services, Southern proposes to install an electric driven compressor unit rather than a gas driven compressor unit at the previously authorized Compressor Station No. 2 in Glynn County, Georgia, all as more fully set forth in the application which is on file with the Commission and open to public inspection. The instant filing may be also viewed on the Web at http://www.ferc.gov using the “eLibrary” link. Enter the docket number excluding the last three digits in the docket number field to access the document. For assistance, call (866) 208-3676 or TTY, (202) 502-8659.

Southern asserts that the proposed change will not materially modify the nature, scope, or impact of the Cypress Pipeline Project and that the amount of capacity and horsepower will remain the same.

Any questions regarding the application should be directed to David Hendrickson, Associate General Counsel, Southern Natural Gas Company, P.O. Box 2563, Birmingham, Alabama 35202-2563 at (205) 325-7114.

There are two ways to become involved in the Commission's review of this project. First, any person wishing to obtain legal status by becoming a party to the proceedings for this project should, on or before the below listed comment date, file with the Federal Energy Regulatory Commission, 888 First Street, NE., Washington, DC 0426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

Motions to intervene, protests and comments may be filed electronically via the Internet in lieu of paper; see, 18 CFR 385.2001(a)(1)(iii) and the instructions on the Commission's Web site under the “e-Filing” link. The Commission strongly encourages electronic filings.

Comment Date: 5 p.m. Eastern Time on July 20, 2007.

Kimberly D. Bose,
Secretary.

[FR Doc. E7-13869 Filed 7-17-07; 8:45 am]

BILLING CODE 6717-01-P